DEPARTMENT OF LABOR

Employment and Training Administration

[NAFTA-6329]

Tyco International, White City, OR; Notice of Termination of Investigation

Pursuant to Title V of the North American Free Trade Agreement Implementation Act (Pub. L. 103-182) concerning transitional adjustment assistance, hereinafter called NAFTA-TAA and in accordance with section 250(a), subchapter D, chapter 2, Title II, of the Trade Act of 1974, as amended (19 U.S.C. 2273), an investigation was initiated on May 30, 2001, in response to a petition filed by the company on behalf of workers at Tyco International, White City, Oregon.

The investigation revealed that this petition is a copy of the petition for which the Department issued a negative determination on November 7, 2001 (NAFTA-4935). Consequently, further investigation in this case would serve no purpose; and the investigation has been terminated.

Signed in Washington, DC, this 15th day of July, 2002.
Linda G. Poole,
Certifying Officer, Division of Trade Adjustment Assistance.

[FR Doc. 02-19094 Filed 7-26-02; 8:45 am]

BILLING CODE 4510-30-P